LEGAL SERVICES CORPORATION

Legal Services Corporation Performance Criteria; Request for Comments on Performance Area 4

AGENCY: Legal Services Corporation.

ACTION: Request for comments.

SUMMARY: The Legal Services Corporation (LSC) is in the process of revising the Performance Criteria that LSC uses to evaluate the quality of legal assistance provided by its grantees. LSC is seeking comments on the proposed changes to Performance Area 4, “Effectiveness of governance, leadership, and administration.”

DATES: All comments must be received on or before the close of business on May 29, 2017.

ADDRESSES: You may submit comments by any of the following methods:

• Agency Web site: http://www.lsc.gov/about-lsc/matters-comment

• Email: performancecriteria@lsc.gov

• Fax: (202) 337-6813

• Mail: Legal Services Corporation, 3333 K Street NW., Washington, DC 20007.

Instructions: All comments should be addressed to Zoe Osterman, Project Coordinator for the Executive Office, Legal Services Corporation. Include “Revisions to Performance Area 4” as the heading or subject line for all comments submitted.

FOR FURTHER INFORMATION CONTACT: Zoe Osterman, ostermanz@lsc.gov, (202) 295-1617.

SUPPLEMENTARY INFORMATION: As an entity created and funded by Congress, LSC has the statutory responsibility to ensure that recipients of LSC funds provide economical and effective legal assistance to eligible individuals in all parts of the country, including U.S. territories. With this goal in mind, LSC adopted the Performance Criteria in 1995. LSC last revised the Performance Criteria in 2007.

Beginning in 2016, LSC initiated a process to revise the Performance Criteria. LSC started with Performance Area 4, “Effectiveness of governance, leadership, and administration.” LSC established an internal working group and an external advisory committee comprised of board governance experts, judges, executive directors and former board members of LSC recipients, and representatives from the American Bar Association and the National Legal Aid and Defender Association. These groups worked to identify criteria within Performance Area 4 in need of revisions, best practices in nonprofit governance, and the strengths and weaknesses of proposed revisions. LSC also consulted with the advisory committee to identify the best ways to ensure recipient compliance with the Performance Criteria and the best tools for monitoring recipient board governance and leadership performance. This process culminated in the creation of charts, broken down by criteria, that show the existing indicators and the areas of inquiry LSC uses to evaluate recipients' performance on each indicator the proposed new indicators and areas of inquiry, and sources of support for each proposed change.

LSC now seeks public comment on the proposed changes to Performance Area 4 described in the chart. Black font indicates language in the current performance criteria and red font indicates proposed language. The charts will be available at http://www.lsc.gov/about-lsc/matters-comment beginning March 31, 2017.

LSC is following a similar process to revise Performance Criteria 1-3. Additional information and opportunity to comment on the revisions to Performance Criteria 1-3 will be provided in future Federal Register notices.

Dated: March 30, 2017.
Stefanie K. Davis,
Assistant General Counsel.

[FR Doc. 2017-06681 Filed 4-4-17; 8:45 am]

BILLING CODE 7050-01-P